DEPARTMENT OF ENERGY

Federal Energy Regulatory Commission

Combined Notice of Filings

April 29, 2010.

Take notice that the Commission has received the following Natural Gas Pipeline Rate and Refund Report filings:

Docket Numbers: RP10-652-000.

Applicants: Dominion South Pipeline Company, LP.

Description: Dominion South Pipeline Company, LP submits tariff filing per 154.203: DSP 4-28-10 Baseline Filing to be effective 4/28/2010.

Filed Date: 04/28/2010.

Accession Number: 20100428-5038.

Comment Date: 5 p.m. Eastern Time on Monday, May 10, 2010.

Docket Numbers: RP10-653-000.

Applicants: Discovery Gas Transmission LLC.

Description: Discovery Gas Transmission LLC Cash-out Report for 2009.

Filed Date: 04/27/2010.

Accession Number: 20100427-5175.

Comment Date: 5 p.m. Eastern Time on Monday, May 10, 2010.

Docket Numbers: RP10-654-000.

Applicants: Equitrans, L.P.

Description: Equitrans, LP submits Second Revised Sheet 319 to be effective 5/1/2010.

Filed Date: 04/28/2010.

Accession Number: 20100428-0206.

Comment Date: 5 p.m. Eastern Time on Monday, May 10, 2010.

Docket Numbers: RP10-655-000.

Applicants: Natural Gas Pipeline Company of America LLC.

Description: Natural Gas Pipeline Company of America LLC submits an amendment to an existing Transportation Rate Schedule FTS Agreement with a negotiated rate exhibit with EDF Trading North America, LLC.

Filed Date: 04/28/2010

Accession Number: 20100428-0211.

Comment Date: 5 p.m. Eastern Time on Monday, May 10, 2010.

Docket Numbers: RP10-656-000.

Applicants: Natural Gas Pipeline Company of America LLC.

Description: Natural Gas Pipeline Company of America LLC submits First Revised Sheet 34.F et al to FERC Gas Tariff, Seventh Revised Volume 1 to be effective 5/1/10.

Filed Date: 04/28/2010.

Accession Number: 20100428-0212.

Comment Date: 5 p.m. Eastern Time on Monday, May 10, 2010.

Docket Numbers: RP10-657-000.

Applicants: Gulfstream Natural Gas System, L.L.C.

Description: Gulfstream Natural Gas Systems, LLC submits First Revised Sheet 8A et al to FERC Gas Tariff, Original Volume 1 to be effective 5/28/10.

Filed Date: 04/28/2010.

Accession Number: 20100428-0214.

Comment Date: 5 p.m. Eastern Time on Monday, May 10, 2010.

Docket Numbers: RP10-658-000.

Applicants: ANR Storage Company.

Description: ANR Storage Company submits tariff filing per 154.203: Baseline Filing to be effective 4/28/2010.

Filed Date: 04/28/2010.

Accession Number: 20100428-5140.

Comment Date: 5 p.m. Eastern Time on Monday, May 10, 2010.

Docket Numbers: RP10-659-000.

Applicants: Northwest Pipeline GP.

Description: Northwest Pipeline GP submits Tenth Revised Sheet 396 et al to FERC Gas Tariff, Fourth Revised Volume 1 to be effective 5/28/10.

Filed Date: 04/28/2010.

Accession Number: 20100428-0215.

Comment Date: 5 p.m. Eastern Time on Monday, May 10, 2010.

Docket Numbers: RP10-660-000.

Applicants: North Baja Pipeline, LLC.

Description: North Baja Pipeline, LLC submits tariff filing per 154.203: Baseline Filing to be effective 4/28/2010.

Filed Date: 04/28/2010.

Accession Number: 20100428-5149.

Comment Date: 5 p.m. Eastern Time on Monday, May 10, 2010.

Docket Numbers: RP10-661-000.

Applicants: Transcontinental Gas Pipe Line Company, LLC.

Description: Transcontinental Gas Pipe Line Company, LLC submits Second revised Sheet 6 et al to FERC Gas Tariff, Fourth Revised Volume 1, to be effective 5/29/10.

Filed Date: 04/28/2010.

Accession Number: 20100428-0216.

Comment Date: 5 p.m. Eastern Time on Monday, May 10, 2010.

Docket Numbers: RP10-662-000.

Applicants: Cameron Interstate Pipeline, LLC.

Description: Report of Cameron Interstate Pipeline, LLC, regarding Annual Reports of Interruptible Transportation Revenue Sharing and Penalty Sharing, report submitted April 28, 2010, for calendar year 2009.

Filed Date: 04/28/2010.

Accession Number: 20100428-5167.

Comment Date: 5 p.m. Eastern Time on Monday, May 10, 2010.

Docket Numbers: RP10-663-000.

Applicants: Wyoming Interstate Company LLC.

Description: Wyoming Interstate Company LLC submits tariff filing per 154.203: Baseline to be effective 5/1/2010.

Filed Date: 04/28/2010.

Accession Number: 20100428-5178.

Comment Date: 5 p.m. Eastern Time on Monday, May 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-11120 Filed 5-10-10; 8:45 am]

BILLING CODE 6717-01-P